DEPARTMENT OF COMMERCE

Foreign-Trade Zones Board

[B-22-2025]

Foreign-Trade Zone (FTZ) 20, Notification of Proposed Production Activity; LMFAKRO, LLC; (Wooden Attic Stair Products); Elizabeth City, North Carolina

LMFAKRO, LLC submitted a notification of proposed production activity to the FTZ Board (the Board) for its facility in Elizabeth City, North Carolina within FTZ 20. The notification conforming to the requirements of the Board's regulations (15 CFR 400.22) was received on April 3, 2025.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: wooden attic stairs (duty rate 3.2%).

The proposed foreign-status materials/components include: crossbars (22.5 inches to 30 inches); steel brackets; steel flat bar units; steel hinges; steel spring clips; steel tension springs; steel crossbar pins; steel flat bar bushing; steel crossbar caps; steel screw (m6 x 22); steel nuts with flange and polyamide insert; steel screw cylinders (6 x 50); top handrail caps; ropes (3 millimeters); wood stringers (left and right 54 inches); rear and front wood boards (22.5 inches to 30 inches); steel claw nuts (6 x 12); rubber gaskets (22.5 inches to 54 inches); staples (14 x 35); moisture resistant plywood boards (22.5 inches x 54 inches to 30 inches x 54 inches); fireproof plywood boards (22.5 inches x 54 inches to 30 inches x 54 inches); carriage bolts (m5 x 55); countersunk chipboard screws (5 x 40); R10 insulation boards (22.5 inches x 54 inches to 30 inches x 54 inches); regular plywood (25 inches x 54 inches to 30 inches x 54 inches); polystyrene filling, R5 insulation boards ((22.5 inches x 54 inches to 30 inches x 54 inches); wood tread; wood ladder stairs; steel M6 claw nuts; steel stair hinge; steel handrails; cardboard boxes (22.5 inches x 54 inches to 30 inches x 54 inches); steel staples (13 x 8); polyethylene film, and paper labels and manual sets.(duty rate ranges from duty-free to 12%). The request indicates that certain materials/components are subject to duties under section 1702(a)(1)(B) of the International Emergency Economic Powers Act (section 1702), section 232 of the Trade Expansion Act of 1962 (section 232) or section 301 of the Trade Act of 1974 (section 301), depending on the country of origin. The applicable section 1702, section 232 and section 301 decisions require subject merchandise to be admitted to FTZs in privileged foreign status (19 CFR 146.41). The request indicates that all its foreign-status components are subject to an antidumping/countervailing duty (AD/CVD) order/investigation if imported from certain countries. The Board's regulations (15 CFR 400.13(c)(2)) require that merchandise subject to AD/CVD orders, or items which would be otherwise subject to suspension of liquidation under AD/CVD procedures if they entered U.S. customs territory, be admitted to the zone in PF status (19 CFR 146.41).

Public comment is invited from interested parties. Submissions shall be addressed to the Board's Executive Secretary and sent to: ftz@trade.gov. The closing period for their receipt is May 20, 2025.

A copy of the notification will be available for public inspection in the “Online FTZ Information System” section of the Board's website.

For further information, contact Kolade Osho at Kolade.Osho@trade.gov.

Dated: April 4, 2025.
Elizabeth Whiteman,
Executive Secretary.

[FR Doc. 2025-06126 Filed 4-9-25; 8:45 am]

BILLING CODE 3510-DS-P